DEPARTMENT OF HOMELAND SECURITY

Coast Guard

33 CFR Part 117

[Docket No. USCG-2015-0343]

Drawbridge Operation Regulations; Atlantic Intracoastal Waterway, Little River to Savannah River

AGENCY: Coast Guard, DHS.

ACTION: Notice of temporary deviation from regulations; request for comments.

SUMMARY: The Coast Guard is issuing a temporary deviation from the operating schedule that governs the Lady's Island Bridge, across the Beaufort River, Mile 536.0 at Beaufort, SC. This deviation will test a change to the drawbridge operation schedule to determine whether a permanent change to the schedule is needed to reduce vehicular traffic concerns in surrounding communities. This deviation will allow Lady's Island Bridge to close for extended hours during peak morning and afternoon commute hours. The bridge owner, South Carolina Department of Transportation, requested this action to assist in reducing traffic caused by bridge openings.

DATES: This deviation is effective from 8 a.m. on August 5, 2015 until 6 p.m. on November 3, 2015.

Comments and related material must be received by the Coast Guard on or before September 4, 2015. Requests for public meetings must be received by the Coast Guard on or before September 4, 2015.

ADDRESSES: You may submit comments identified by docket number USCG-2015-0343 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for instructions on submitting comments. To avoid duplication, please use only one of these three methods.

FOR FURTHER INFORMATION CONTACT: If you have questions on this temporary deviation, call or email Rod Elkins at telephone 305-415-6989, email Rodney.j.elkins@uscg.mil. If you have questions on viewing or submitting material to the docket, call Cheryl Collins, Program Manager, Docket Operations, telephone 202-366-9826.

SUPPLEMENTARY INFORMATION:

A. Public Participation and Request for Comments

We encourage you to participate in this rulemaking by submitting comments and related materials. All comments received will be posted, without change, to http://www.regulations.gov and will include any personal information you have provided.

1. Submitting Comments

If you submit a comment, please include the docket number for this rulemaking (USCG-2015-0343), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, type the docket number [USCG-2015-0343] in the “SEARCH” box and click “SEARCH.” Click on “Submit a Comment” on the line associated with this rulemaking. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2015-0343) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

As of now, we do not plan to hold a public meeting. You may submit a request for one using one of the three methods specified under ADDRESSES. Please explain why one would be beneficial. If we determine that one would aid this rulemaking, we will hold one at a time and place announced by a later notice in the Federal Register.

B. Basis and Purpose

The Ladys Island in Beaufort, South Carolina has a vertical clearance of 30 feet at mean high water in the closed position. The normal operating schedule is published in 33 CFR 117.911(f). As currently implemented, the draw shall operate as follows:

(1) On Monday through Friday, except Federal holidays:

(i) From 7 a.m. to 9 a.m. and 4 p.m. to 6 p.m., the draw need not open; and,

(ii) Between 9 a.m. to 4 p.m., the draw need open only on the hour and half-hour.

(2) At all other times the draw shall open on signal.

This schedule has been in effect since Dec. 16, 1985.

For the following reasons the Coast Guard is testing a new schedule for the Lady's Island Bridge:

The City of Beaufort, South Carolina and South Carolina Department of Transportation have requested that the U.S. Coast Guard change the regulation of this bridge as it has negatively impacted the City of Beaufort and surrounding communities. According to both the City of Beaufort and the South Carolina Department of Transportation, vehicle traffic in downtown Beaufort has increased substantially over the last few years and city officials are anticipating additional growth in this area which will produce additional vehicle traffic. As the Lady's Island Bridge is located just west of the city, each time it opens vehicle traffic is at a standstill and at times takes longer than a ½ hour to clear; thereby, making some vehicles wait for two bridge openings. This temporary deviation is intended to test a new bridge operation schedule to reduce traffic caused by bridge openings. The bridge owner, South Carolina Department of Transportation, has reviewed the City of Beaufort's request to change the operating schedule and has asked the Coast Guard to pursue recommended changes. In the event the test proves successful, the Coast Guard will issue a further rule making this change permanent.

This deviation will allow the Lady's Island Bridge in Beaufort, South Carolina to remain closed to navigation from 6:30 a.m. to 9 a.m. and from 3 p.m. to 6 p.m. Between 9 a.m. and 3 p.m. the bridge will open on the top of the hour. At all other times the bridge will open on demand.

Any vessel that can safely transit under the Lady's Island Bridge while closed may continue to navigate under the bridge during this deviation.

In accordance with 33 CFR 117.35(e), the drawbridge must return to its regular operating schedule immediately at the end of this temporary deviation's effective period. This deviation from the operating regulations is authorized under 33 CFR 117.35.

Dated: July 24, 2015.
Barry Dragon,
Bridge Administrator, U.S. Coast Guard, Seventh Coast Guard District.

[FR Doc. 2015-19112 Filed 8-4-15; 8:45 am]

BILLING CODE 9110-04-P